FEDERAL ELECTION COMMISSION

Sunshine Act Meetings

TIME AND DATE: Thursday, June 18, 2015 at 10:00 a.m.

PLACE: 999 E Street NW., Washington, DC (Ninth Floor).

STATUS: This meeting will be open to the public.

MATTERS TO BE CONSIDERED:

Correction and Approval of Minutes for May 21, 2015

Draft Advisory Opinion 2015-01: Green-Rainbow Party

Rulemaking Petition REG 2015-02: Independent Spending by Corporations, Labor Organizations, Foreign Nationals, and Certain Political Committees (Citizens United)

Proposed Directive 74 on the Timely Resolution of Enforcement Matters

Notice to Respondents of Information Sharing by the Commission

Proposed Statement of Policy Regarding the Public Disclosure of Closed Enforcement Files

Audit Division Recommendation Memorandum on Gary Johnson 2012, Inc.

Proposed Final Audit Report on the Oakland County Democratic Party (A12-02)

Management and Administrative Matters

Individuals who plan to attend and require special assistance, such as sign language interpretation or other reasonable accommodations, should contact Shawn Woodhead Werth, Secretary and Clerk, at (202) 694-1040, at least 72 hours prior to the meeting date.

CONTACT PERSON FOR MORE INFORMATION: Judith Ingram, Press Officer, Telephone: (202) 694-1220.

Shawn Woodhead Werth,
Secretary and Clerk of the Commission.

[FR Doc. 2015-14770 Filed 6-11-15; 4:15 pm]

BILLING CODE 6715-01-P